COMMITTEE FOR PURCHASE FROM PEOPLE WHO ARE BLIND OR SEVERELY DISABLED

Procurement List; Proposed Additions and Deletions

AGENCY: Committee for Purchase From People Who Are Blind or Severely Disabled.

ACTION: Proposed Deletions from the Procurement List.

SUMMARY: The Committee is proposing to add service(s) to the Procurement List that will be furnished by nonprofit agencies employing persons who are blind or have other severe disabilities and deletes product(s) and services previously furnished by such agencies.

DATES: Comments must be received on or before: June 15, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Additions

In accordance with 41 CFR 51-5.3(b), the Committee intends to add this services requirement to the Procurement List as a mandatory purchase only for the contracting activity listed at the location listed with the proposed qualified nonprofit agency as the authorized source of supply. Prior to adding the service to the Procurement List, the Committee will consider other pertinent information, including information from Government personnel and relevant comments from interested parties regarding the Committee's intent to geographically limit this services requirement.

The following service(s) are proposed for addition to the Procurement List for production by the nonprofit agencies listed:

Service(s)

Service Type: Mail Services

Mandatory for: US Air Force, Postal Service Center, Altus Air Force Base, OK

Authorized Source of Supply: VersAbility Resources, Inc., Hampton, VA

Contracting Activity: U.S. Air Force, 97th Contracting Squadron, Altus AFB, OK

Deletions

The following product(s) and service(s) are proposed for deletion from the Procurement List:

Product(s)

NSN(s)—Product Name(s): 5340-00-NIB-0002—Key Blank, Standard, USPS

Authorized Source of Supply: Mississippi Industries for the Blind (Inc.), Jackson, MS

Contracting Activity: U.S. Postal Service, Washington, DC

NSN(s)—Product Name(s):

8105-00-NIB-1412—Aquapad Sand-less Sandbag

8465-01-630-6365—Reflective Safety Belt, ARMY, Adjustable 31″ to 55″, Gold/Black

8465-01-630-6371—Reflective Safety Belt, NAVY, Adjustable 31″ to 55″, Silver/Black

8465-01-630-6375—Reflective Safety Belt, AIR FORCE, Adjustable 31″ to 55″, Silver/Blue

8465-01-630-6915—Reflective Safety Belt, USMC, Adjustable 31″ to 55″, Amber/Scarlet

Authorized Source of Supply: Envision, Inc., Wichita, KS

Contracting Activity: DLA Troop Support, Philadelphia, PA

NSN(s)—Product Name(s):

7510-01-682-8095—Monthly Planner, Recycled, Dated 2025, 14-month, 6⅞″ x 8¾″

7510-01-682-8105—Professional Planner, Dated 2025, Recycled, Weekly, Black, 8½″ x 11″

7530-01-693-5566—Weekly Planner Book, Dated 2025, 5″ x 8″, Black

7530-01-693-5573—Monthly Desk Planner, Dated 2025, Wire Bound, Non-refillable, Black Cover

7530-01-693-5581—Weekly Desk Planner, Dated 2025, Wire Bound, Non-refillable, Black Cover

7530-01-693-5598—Daily Desk Planner, Dated 2025, Wire bound, Non-refillable, Black Cover

7510-01-682-8101—Wall Calendar, Recycled, Dated 2025, Vertical, 3 Months, 12¼″ x 26″

7510-01-693-5078—Monthly Wall Calendar, Dated 2025, Jan-Dec, 8½″ x 11″

7510-01-693-5084—Wall Calendar, Dated 2025, Wire Bound w/hanger, 15.5″ x 22″

7510-01-693-5098—Wall Calendar, Dated 2025, Wire Bound w/Hanger, 12″ x 17″

7510-01-695-6113—Dated 2025 12-Month 2-Sided Laminated Wall Planner, 24″ x 37″

Authorized Source of Supply: Chicago Lighthouse Industries, Chicago, IL

Contracting Activity: GSA/FAS Admin SVCS Acquisition BR(2, NEW YORK, NY

Service(s)

Service Type: Janitorial/Custodial

Mandatory for: Department of Veterans Affairs, VA Northern California Health Care System, Fairfield Outpatient Clinic, 103 Bodin Circle, Buidling 778, Travis AFB, CA

Authorized Source of Supply: Easter Seal Society of Superior California, Sacramento, CA

Contracting Activity: Veterans Affairs, Department Of, 261-Network Contract OFC21 (00261)

Service Type: Administrative Service

Mandatory for: National Park Service, Harpers Ferry Center, Harpers Ferry, WV

Authorized Source of Supply: Hagerstown Goodwill Industries, Inc., Hagerstown, MD

Contracting Activity: National Park Service, Washington Contracting Office

Service Type: Janitorial/Grounds Maintenance

Mandatory for: Veterans Administration, VA Northern California Health Care, Mare Island Outpatient Clinic, Vallejo, CA

Authorized Source of Supply: Easter Seal Society of Superior California, Sacramento, CA

Contracting Activity: Veterans Affairs, Department Of, 261-Network Contract Ofc21 (00261)

Service Type: Food Service Attendant

Mandatory for: US Air Force, Minnesota Air National Guard, 133rd Airlift Wing, Base Dining Facility, St. Paul, MN

Authorized Source of Supply: AccessAbility, Inc., Minneapolis, MN

Contracting Activity: Dept Of The Army, W7ng USPFO Activity Mn ARNG

Service Type: Mailroom Operation

Mandatory for: Department of Health and Human Services, Hubert H. Humphrey Building, Mary E. Switzer Building, and Wilbur J. Cohen Building, Washington, DC

Authorized Source of Supply: Didlake, Inc., Manassas, VA

Contracting Activity: Office Of The Assistant Secretary For Administration (ASA), Program Support Center Acq Mgmt Svc

Michael R. Jurkowski,
Director, Business Operations.

[FR Doc. 2025-08755 Filed 5-15-25; 8:45 am]

BILLING CODE 6353-01-P